DEPARTMENT OF COMMERCE

National Oceanic and Atmospheric Administration

[I.D. 071105F]

Marine Mammals; File No. 948-1692-00

AGENCY: National Marine Fisheries Service (NMFS), National Oceanic and Atmospheric Administration (NOAA), Commerce.

ACTION: Notice; issuance of permit.

SUMMARY: Notice is hereby given that D. Ann Pabst, Ph.D., Biological Sciences and Center for Marine Science, University of North Carolina at Wilmington, 601 S. College Road, Wilmington, North Carolina 28403 has been issued a permit to conduct scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9200; fax (978)281-9371; and

Southeast Region, NMFS, 263 13th Avenue South, Saint Petersburg, Florida 33701; phone (727)824-5312; fax (727)824-5309.

FOR FURTHER INFORMATION CONTACT: Carrie Hubard or Dr. Tammy Adams, (301)713-2289.

SUPPLEMENTARY INFORMATION: On April 7, 2004, notice was published in the Federal Register (69 FR 18358) that a request for a scientific research permit to take Northern right whales (Balaena glacialis), humpback whales (Megaptera novaeangliae) and other non-listed cetaceans had been submitted by the above-named individual. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Permit No. 948-1692-00 authorizes the Holder to conduct aerial and shipboard surveys of North Atlantic right whales and humpback whales in coastal and offshore waters of the mid-Atlantic, from Florida to Delaware Bay. When located, right whales, humpback whales and Atlantic bottlenose dolphins (Tursiops truncatus) will be approached for photo-identification and thermal imaging. Various other species of cetaceans may be incidentally harassed as a result of the surveys. The permit has been issued for a five-year period.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: May 5, 2006.
Stephen L. Leathery,
Chief, Permits, Conservation and Education Division, Office of Protected Resources, National Marine Fisheries Service.

[FR Doc. E6-7145 Filed 5-9-06; 8:45 am]

BILLING CODE 3510-22-S